DEPARTMENT OF HEALTH AND HUMAN SERVICES

Public Health Service

National Toxicology Program; Meeting of the Advisory Committee on Alternative Toxicological Methods

Pursuant to Section 10(a) of the Federal Advisory Committee Act, as amended (5 U.S.C. Appendix 2), notice is hereby given of a meeting of the National Toxicology Program (NTP) Advisory Committee on Alternative Toxicological Methods, U.S. Public Health Service. The meeting will be held from 9 a.m. to 5 p.m. on November 28, 2000 in the Director's Board Room, National Library of Medicine, National Institutes of Health Campus, Building 38, 8600 Rockville Pike, Bethesda, Maryland 20894. The entire meeting is open to the public and time is planned for persons who would like to make public comments. Although not required, pre-registration is preferred to assist in planning for adequate space. To pre-register for this meeting, please contact Dr. Mary S. Wolfe, NTP Executive Secretary, P. O. Box 12233, A3-07, NIEHS, Research Triangle Park, North Carolina 27709, telephone: 919-541-3971 and FAX: 919-541-0295. Individuals who plan to attend and need special assistance, such as sign language interpretation or other reasonable accommodations, are asked to notify the contact person listed below in advance of the meeting.

Background

Under authority of 42 U.S.C. 217a, Section 222 of the Public Health Service Act, as amended, the Department of Health and Human Services has established an Advisory Committee on Alternative Toxicological Methods. The Committee functions to provide advice on the activities and priorities of the NTP Center and the Interagency Coordinating Committee on the Validation of Alternative Methods (ICCVAM) and to provide advice on ways to foster partnership activities and productive interactions among all stakeholders. The Advisory Committee is composed of knowledgeable representatives drawn from academia, industry, public interest organizations, other state and Federal agencies, and the international community [Federal Register: September 15, 1997 (Volume 62, Number 178, Page 48290)]

Agenda

The agenda for the November 28th session will consist of presentations on recent and proposed activities of the NTP Center and ICCVAM. The Committee will discuss issues relating to processes and priorities and recommendations relevant to the validation of new and revised toxicological testing methods. Information on methods that will be discussed is available on the Internet at: http://iccvam.niehs.nih.gov.

Preliminary Agenda—National Toxicology Program Advisory Committee on Alternative Toxicological Methods, National Library of Medicine, Building 38, NIH Campus, Bethesda, MD, November 28, 2000

Tuesday, November 28, 2000

9 a.m.

Opening Comments

Update on the NTP Interagency Center for the Evaluation of Alternative Toxicological Methods and ICCVAM Activities

Implementation of ICCVAM Recommended Methods

Report on the Peer Review of the Revised Up-and-Down Procedure (UDP) for Assessing Acute Oral Toxicity (July 25, 2000)

Public Comments

12:15 p.m. Lunch Break

1:15 p.m.

I. Report on the International Workshop on In Vitro Methods for Assessing Acute Systemic Toxicity (October 17-20, 2000)

II. Report on the Expert Panel Meeting on the Frog Embryo Teratogenesis Assay—Xenopus (FETAX)

Committee Discussion on Future Directions and Related Issues

Public Comments

5 p.m. Adjourn

A detailed agenda with meeting schedule and the Committee roster will be available prior to the meeting on the NTP web site (http://ntp-server.niehs.nih.gov) or by contacting the NTP Executive Secretary, at the address given above. Summary minutes will also be available subsequent to the meeting by contacting the address above.

Solicitation of Public Comment

The Advisory Committee on Alternative Toxicological Methods meeting is open to the public, and time is reserved for any interested individual/group (limit one speaker per group) to give oral comments on the activities, directions, or priorities of the Center and/or on any of the agenda items discussed at the meeting. In order to facilitate planning for the meeting, persons wishing to make an oral presentation are asked to notify the Executive Secretary prior to the meeting at the address given above; however, registration for public comments will also be available on-site at the meeting. A person registering to make comments will be asked to provide his/her name, affiliation, mailing address, phone, fax, e-mail and supporting organization (if any).

Written comments can accompany or be provided in lieu of making oral comments. All comments must include name, affiliation, mailing address, phone, fax, e-mail and sponsoring organization (if any) and should be sent to the Executive Secretary at the address given above.

Dated: October 25, 2000.
Samuel H. Wilson,
Deputy Director, National Institute of Environmental Health Sciences.

[FR Doc. 00-28342 Filed 11-3-00; 8:45 am]

BILLING CODE 4140-01-P